DEPARTMENT OF DEFENSE

Department of the Navy

Notice of Additional Public Hearing in the City of Charlotte, NC and Extension of Public Comment Period for the Draft Supplemental Environmental Impact Statement (SEIS) for the Introduction of F/A-18 E/F (Super Hornet) Aircraft to the East Coast of the United States (Construction and Operation of an Outlying Landing Field)

AGENCY: Department of the Navy, DoD.

ACTION: Notice.

SUMMARY: Pursuant to Section 102(2)(C) of the National Environmental Policy Act (NEPA) of 1969 [42 U.S.C. sections 4321-4345] and its implementing regulations (40 CFR parts 1500-1508), the Department of the Navy prepared and filed with the U.S. Environmental Protection Agency (EPA) the Draft SEIS on February 16, 2007. A notice of public hearing dates and locations was published in the Federal Register, 72 FR 8151, on February 23, 2007, and a Notice of Availability of the Draft SEIS was published in the Federal Register, 72 FR 8155, on February 23, 2007. On March 19, 2007, the Secretary of the Navy was requested to hold an additional public hearing in the City of Charlotte, North Carolina.

Dates and Addresses: A public hearing has been scheduled for April 17, 2007, at the Charlotte Conference Center, 501 South College Street, Charlotte, NC. An open information session will precede the scheduled public hearing and allow interested individuals to review information presented in the Draft SEIS. Navy representatives will be available during the information session to provide clarification as necessary related to the Draft SEIS. The open information session is scheduled from 4:30 p.m. to 6:30 p.m., followed by the public hearing from 7 p.m. to 10 p.m.

FOR FURTHER INFORMATION CONTACT: OLF SEIS Project Manager, Naval Facilities Engineering Command, Atlantic, 6506 Hampton Boulevard, Norfolk, VA 23508-1278; facsimile 757-322-4894.

SUPPLEMENTARY INFORMATION: Federal, state and local agencies, as well as interested parties, are invited and encouraged to be present or represented at the public hearing. Oral statements will be heard and transcribed by a stenographer; however, to ensure the accuracy of the record, all statements should be submitted in writing. All statements, both oral and written, will become part of the public record on the Draft SEIS and will be addressed in the Final SEIS. Equal weight will be given to both oral and written statements.

In the interest of available time and to ensure all who wish to provide an oral statement have the opportunity to do so, each speaker's comments will be limited to three (3) minutes. If a longer statement is to be presented, it should be summarized at the public hearing, and the full text summarized in writing either at the hearing, mailed or faxed to the contact.

Due to the fact that an additional public hearing has been scheduled for April 17, 2007, the Navy has extended the public comment period on the Draft SEIS to May 9, 2007. This allows a public comment period of 75 days. All comments on the Draft SEIS must be postmarked by May 9, 2007 to be considered in the Final SEIS. Comments may be mailed to: Commander, Naval Facilities Engineering Command Atlantic, Attn: OLF SEIS Project Manager, 6506 Hampton Boulevard, Norfolk, VA 23508-1278; facsimile 757-322-4894.

The Draft SEIS was distributed to the following library: Main Library of Charlotte located at 310 N. Tryon Street, Charlotte, NC 28202. An electronic copy is also available for public viewing at: http://www.olfseis.com. Requests for single copies of the Draft SEIS (on CD-ROM) or its Executive Summary may be made online at http://www.olfseis.com or by calling 1-866-615-6477.

Dated: March 27, 2007.
M.A. Harvison,
Lieutenant Commander, Judge Advocate General's Corps, U.S. Navy, Federal Register Liaison Officer.

[FR Doc. E7-6078 Filed 4-2-07; 8:45 am]

BILLING CODE 3810-FF-P